DEPARTMENT OF TRANSPORTATION

Federal Aviation Administration

14 CFR Part 73

[Docket No. FAA-2005-21957; Airspace Docket No. 05-AWP-8]

RIN 2120-AA66

Change of Controlling Agency for Restricted Area R-2531; Tracy, CA

AGENCY: Federal Aviation Administration (FAA), DOT.

ACTION: Final rule.

SUMMARY: This action changes the controlling agency for Restricted Area R-2531, Tracy, CA, from the FAA, Oakland Air Route Traffic Control Center (ARTCC) to the FAA, Northern California Terminal Radar Approach Control (TRACON). The FAA is taking this action in response to a realignment of airspace responsibilities in the state of California. There are no changes to the boundaries; designated altitudes; time of designation; or activities conducted within the affected restricted areas.

EFFECTIVE DATES: 0901 UTC, October 27, 2005.

FOR FURTHER INFORMATION CONTACT: Ken McElroy, Airspace and Rules, Office of System Operations and Safety, Federal Aviation Administration, 800 Independence Avenue, SW., Washington, DC 20591; telephone: (202) 267-8783.

The Rule

This action amends Title 14 Code of Federal Regulations (14 CFR) part 73 by changing the controlling agency of R-2531, Tracy, CA in response to a realignment of airspace responsibilities in the state of California. This is an administrative change and does not affect the boundaries, designated altitudes, or activities conducted within the restricted areas. Therefore, notice and public procedures under 5 U.S.C. 553(b) is unnecessary.

Section 73.25 of 14 CFR part 73 of the Federal Aviation Regulations was republished in the Regulatory/Non-Regulatory Special Use Airspace Areas compilation, dated January 27, 2005.

The FAA has determined that this regulation only involves an established body of technical regulations for which frequent and routine amendments are necessary to keep them operationally current. Therefore, this regulation: (1) Is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311c., FAA Order 1050.1E, “Environmental Impacts: Policies and Procedures.” This airspace action is not expected to cause any potentially significant environmental impacts, and no extraordinary circumstances exist that warrant preparation of an environmental assessment.

List of Subjects in 14 CFR Part 73

Airspace, Prohibited Areas, Restricted Areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2531 [Amended]

Under Controlling agency, by removing the words “FAA, Oakland ARTCC,” and inserting the words “FAA Northern California, TRACON.”

* * * * *

Issued in Washington, DC, July 27, 2005.
Edie Parish,
Acting Manager, Airspace and Rules.

[FR Doc. 05-15313 Filed 8-2-05; 8:45 am]

BILLING CODE 4910-13-P